DEPARTMENT OF TRANSPORTATION

Federal Aviation Administration

91st Meeting: RTCA Special Committee 159, Global Positioning Systems (GPS)

AGENCY: Federal Aviation Administration (FAA), U.S. Department of Transportation (DOT).

ACTION: Meeting Notice of RTCA Special Committee 159, RTCA Special Committee 159, Global Positioning Systems (GPS).

SUMMARY: The FAA is issuing this notice to advise the public of the ninety-first meeting of the RTCA Special Committee 159, Global Positioning Systems (GPS).

DATES: The meeting will be held March 11-14, 2014 from 9:00 a.m.-5:00 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 159. The agenda will include the following:

Working Group Sessions

March 11

• Working Group 2, GPS/WAAS, MacIntosh-NBAA Room and Colson Board Room.

March 12

• Working Group 2, GPS/WAAS, ARINC & A4A Rooms Room.

March 12

• Working Group 2 Working Group 4, GPS/Precision Landing, MacIntosh-NBAA Room and Colson Board Room.

March 13

• Working Group 4, GPS/GPS/Precision Landing Guidance MacIntosh-NBAA Room and Colson Board Room.

• Afternoon—1:00-5:00 p.m., Working Group 7, GPS/Antennas, ARINC & A4A Room.

March 14

• Chairman's Introductory Remarks.

• Approval of Summary of the Ninetieth Meeting held March 15, 2013, RTCA Paper No. 197-13/SC159-1009.

• Review Working Group (WG) Progress and Identify Issues for Resolution.

• GPS/3nd Civil Frequency (WG-1)

• GPS/WAAS (WG-2)

• GPS/GLONASS (WG-2A)

• GPS/Inertial (WG-2C)

• GPS/Precision Landing Guidance (WG-4)

• GPS/Airport Surface Surveillance (WG-5)

• GPS/Interference (WG-6)

• GPS/Antennas (WG-7)

• Review of EUROCAE Activities.

• Briefing—DOT's GPS Adjacent Band Compatibility Plan

• Assignment/Review of Future Work

• Other Business.

• Date and Place of Next Meeting.

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 12, 2014.
Paige Williams,
Management Analyst, NextGen, Business Operations Group Federal Aviation Administration.

[FR Doc. 2014-03916 Filed 2-24-14; 8:45 am]

BILLING CODE 4910-13-P